DEPARTMENT OF THE INTERIOR

National Park Service

Notice of Inventory Completion: Louisiana State University Museum of Natural Science, Baton Rouge, LA

AGENCY: National Park Service, Interior.

ACTION: Notice.

Notice is hereby given in accordance with provisions of the Native American Graves Protection and Repatriation Act (NAGPRA), 25 U.S.C. 3003, Sec. 5, of the completion of an inventory of human remains and associated funerary objects in the possession of the Louisiana State University Museum of Natural Science, Baton Rouge, LA.

This notice is published as part of the National Park Service’s administrative responsibilities under NAGPRA, 25 U.S.C. 3003, Sec. 5 (d)(3). The determinations within this notice are the sole responsibility of the museum, institution, or Federal agency that has control of these Native American human remains and associated funerary objects. The National Park Service is not responsible for the determinations within this notice.

A detailed assessment of the human remains was made by Louisiana State University Museum of Natural Science professional staff in consultation with representatives of the Tunica-Biloxi Indian Tribe of Louisiana.

In 1934, human remains representing five individuals were excavated by Dr. James A. Ford at the Angola Farm site (16WF002), West Feliciana Parish, LA. No known individuals were identified. The 7,899 funerary objects recovered during this excavation are 7,298 glass beads, 15 shell beads, 22 ceramic beads, 400 ceramic sherds, 14 metal gun fragments, 73 metal nails and stakes, 1 metal button, 19 metal pellets, 3 metal tinkers, 21 metal fragments, 20 lead balls, 4 lead pellets, 1 copper fragment, 2 pewter buckles, 4 glass fragments, and 2 stone objects.

In 1935 and 1939, Dr. Ford donated the human remains and associated funerary objects to the Louisiana State University Museum of Natural Science where they were curated until 1974 when they were loaned to Dr. Jeffrey Brain at the Peabody-Essex Museum, Salem, MA, for restudy. The human remains and associated funerary objects were returned to the Louisiana State University Museum of Natural Science in 2002.

On December 13, 2000, the National Park Service published a separate notice of inventory completion of behalf of Louisiana State University Museum of Natural Science for the remains of 1 individual and 11 associated funerary objects from the Angola Farm site (16WF002) (Federal Register Document 00-31658, pages 77907-77908).

Officials of the Louisiana State University Museum of Natural Science have determined that, pursuant to 25 U.S.C. 3001, Sec. 2 (9) and 2 (10), the human remains described above represent the physical remains of five individuals of Native American ancestry. Officials of the Louisiana State University Museum of Natural Science also have determined that, pursuant to 25 U.S.C. 3001, Sec. 2 (3)(A), the 7,899 objects described above are reasonably believed to have been placed with or near individual human remains at the time of death or later as part of the death rite or ceremony. Lastly, officials of the Louisiana State University Museum of Natural Science have determined that, pursuant to 25 U.S.C. 3001, Sec. 2 (2), there is a relationship of shared group identity that can be reasonably traced between these Native American human remains and associated funerary objects and the Tunica-Biloxi Indian Tribe of Louisiana.

Representatives of any other Indian tribe that believes itself to be culturally affiliated with these human remains and associated funerary objects should contact Dr. Rebecca Saunders, Curator of Anthropology, Louisiana State University Museum of Natural Science, 119 Foster Hall, Baton Rouge, LA 70803, telephone (225) 578-6562, before April 7, 2003. Repatriation of the human remains and associated funerary objects to the Tunica-Biloxi Indian Tribe of Louisiana may proceed after that date if no additional claimants come forward.

Dated: December 18, 2002.
John Robbins,
Assistant Director, Cultural Resources Stewardship and Partnerships.

[FR Doc. 03-5509 Filed 3-6-03; 8:45 am]

BILLING CODE 4310-70-S